DEPARTMENT OF THE INTERIOR

Fish and Wildlife Service

[FWS-R9-IA-2008-N0228; 96300-1671-0000-P5]

Emergency Exemption: Issuance of Permit for Endangered Species

AGENCY: Fish and Wildlife Service, Interior.

ACTION: Notice of emergency issuance of permit for endangered species.

SUMMARY: The following permit was issued.

ADDRESSES: Documents and other information submitted for this application are available for review, subject to the requirements of the Privacy Act and Freedom of Information Act, by any party who submits a written request for a copy of such documents to: U.S. Fish and Wildlife Service, Division of Management Authority, 4401 North Fairfax Drive, Room 212, Arlington, Virginia 22203, telephone 703/358-2104 or fax 703/358-2281.

FOR FURTHER INFORMATION CONTACT: Division of Management Authority, telephone 703/358-2104.

SUPPLEMENTARY INFORMATION: On August 15, 2008, the U.S. Fish and Wildlife Service (Service) issued a permit (PRT-192748) to the Alaska Department of Fish and Game, Fairbanks, AK, to take one captive held male wood bison (Bison bison athabascae) for the purpose of scientific research into animal and human health. This action was authorized under Section 10(c) of the Endangered Species Act of 1973, as amended (16 U.S.C. 1531 et seq.). The Service determined that an emergency affecting the health and life of the Alaska captive held population existed, and that no reasonable alternative was available to the applicant for the following reasons:

One seven year old adult male wood bison owned by the State of Alaska and held at the Alaska Wildlife Conservation Center, Girdwood, Alaska, became weak and emaciated, and tested positive for Cryptosporidium, threatening the health of other wood bison in the captive herd and presenting a risk to human health.

Dated: August 15, 2008.
Lisa J. Lierheimer,
Senior Permit Biologist, Branch of Permits, Division of Management Authority.

[FR Doc. E8-19912 Filed 8-27-08; 8:45 am]

BILLING CODE 4310-55-P